DEPARTMENT OF TRANSPORTATION

Federal Transit Administration

[Docket No. FTA-2015-0027]

Notice of Buy America Waiver for Voith Propulsion Unit

AGENCY: Federal Transit Administration, DOT.

ACTION: Notice of Buy America waiver.

SUMMARY: The Federal Transit Administration (FTA) received a request from the Virginia Department of Transportation (VDOT) for a Buy America waiver for Voith Turbo Schneider Propeller GmbH (Voith) 21/R5 propulsion units based on non-availability. Voith, located in Germany, is the sole manufacturer of the required propulsion units. VDOT is procuring the propulsion units as part of an engine and drive system replacement for the Ferry Boat Pocahontas, which is operated by VDOT. There are no domestic manufacturers of equivalent propulsion units. In accordance with 49 U.S.C. 5323(j)(3)(A), FTA published a notice of the waiver request and sought public comment in deciding whether to grant the request. Having received no comments opposing the waiver, FTA is hereby granting a non-availability waiver for this one procurement of the specific Voith Turbo Schneider Propeller GmbH identified in this waiver request, and not to any future procurement by VDOT or others.

DATES: This waiver is effective immediately.

FOR FURTHER INFORMATION CONTACT: Laura Ames, FTA Attorney-Advisor, at (202) 366-2743 or laura.ames@dot.gov.

SUPPLEMENTARY INFORMATION: The purpose of this Notice is to announce that FTA is granting a non-availability waiver to VODT for the purchase of two (2) Voith 21/R5 propulsion units based on non-availability. On August 12, 2015, VDOT requested a Buy America waiver for the procurement of the propulsion units. VDOT's request identified Voith, located in Germany, as the sole manufacturer of the required propulsion units. No known domestic equivalents exist. VDOT is procuring the propulsion units as part of an engine and drive system replacement for the Ferry Boat Pocahontas, which is operated by VDOT on the Jamestown-Scotland ferry route crossing the James River in Virginia.

The original propulsion units have reached the end of their useful life. Although the new ferry engines will be manufactured domestically by Caterpillar, Inc., the vessel has a specific propulsion design utilizing a vertical axis cycloidal propeller. The Pocahontas was designed around the vertical propeller configuration. The entirety of the vessel's hull, the engine housing, the dimensions of the vessel, and the ballast locations, are all configured to work with a vertical propulsion unit, which ensures proper piloting and vessel stability. As part of the procurement planning, VDOT contracted with Alion Science and Technology Corp. (Alion) to develop the design of the entire engine replacement. Alion concluded that the Voith propulsion units were paired appropriately (in terms of performance and cost) with the engines manufactured domestically by Caterpillar.

With certain exceptions, FTA's Buy America requirements prevent FTA from obligating an amount that may be appropriated to carry out its program for a project unless “the steel, iron, and manufactured goods used in the project are produced in the United States.” 49 U.S.C. 5323(j)(1). If, however, FTA determines that “the steel, iron, and goods produced in the United States are not produced in a sufficient and reasonably available amount or are not of a satisfactory quality,” then FTA may issue a non-availability waiver. 49 U.S.C. 5323(j)(2)(B); 49 CFR 661.7(c).

FTA also conducted a scouting search through its Interagency Agreement with the U.S. Department of Commerce's National Institute of Standards and Technology (NIST). The scouting search identified one domestic manufacturer as a potential match for this opportunity, Astro Manufacturing and Design in Ohio. This manufacturer produces a similar item to the Vertical Axis Cycloidal Propeller and possesses the capabilities to produce the propeller. However, the U.S. manufacturer identified does not currently produce the exact propeller that VDOT is seeking, as described in this Notice.

On Tuesday, September 29, 2015, and in accordance with 49 U.S.C. 5323(j)(3)(A), FTA published a notice in the Federal Register announcing the VDOT Buy America waiver request (80 FR 58530), seeking comment from all interested parties, including potential vendors and suppliers. The comment period closed on Thursday, October 29, 2015 and no comments were received. Based on the representations from VDOT, the lack of any comments, and the fact that the NIST supplier scouting search did not identify any domestically made propulsion units utilizing a vertical axis cycloidal propeller, FTA is granting a non-availability waiver for the procurement of Voith Turbo Schneider Propeller GmbH (Voith) 21/R5 propulsion units described above.

Issued on: December 7, 2015.
Dana Nifosi,
Deputy Chief Counsel.

[FR Doc. 2015-31154 Filed 12-9-15; 8:45 am]

BILLING CODE 4910-57-P